DEPARTMENT OF HEALTH AND HUMAN SERVICES

Health Resources and Services Administration

Agency Information Collection Activities: Proposed Collection: Comment Request

In compliance with the requirement for opportunity for public comment on proposed data collection projects (section 3506(c) (2) of Title 44, United States Code, as amended by the Paperwork Reduction Act of 1995, Public Law 104-13), the Health Resources and Services Administration (HRSA) will publish periodic summaries of proposed projects being developed for submission to the Office of Management and Budget (OMB) under the Paperwork Reduction Act of 1995. To request more information on the proposed project or to obtain a copy of the data collection plans, call the Heath Resources and Services Administration Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: Emergency Systems for Advance Registration of Volunteer Health Professionals (ESAR-VHP)—NEW

The Emergency Systems for Advance Registration of Volunteer Health Professionals (ESAR-VHP) program requires that each State and Territory develop a system for registering and verifying the licenses, credentials, and privileges of health care volunteers in advance of an emergency. HRSA proposes to develop a common set of standards and definitions that each State and Territory must use in developing these State-based volunteer registry systems. The establishment of a common set of standards and definitions will give each State the ability to quickly identify and better utilize volunteer health professionals in an emergency and provide a common framework for sharing pre-registered volunteers between States.

HRSA will be developing the standards and definitions in collaboration with the States, the American Hospital Association, Joint Commission on Accreditation of Healthcare Organizations, American Board of Medical Specialties, National Council of State Boards of Nursing, American Medical Association, American Nurses Association, and other health professional associations.

The burden estimate for this project is as follows:

Form | Number of respondents | Average number of responses per respondent | Total responses | Hours per response | Total burden hours
Volunteer Application | 135,000 | 1 | 135,000 | .33 | 44,550
Highest Level Verification | * 54 | 125 | 6,750 | .17 | 1,148
Lowest Level Verification | 54 | 2,375 | 128,250 | .05 | 6,413
Total | 135,054 |  | 270,000 |  | 52,111
* States/territories are counted once in the total for respondents to avoid duplicatation.
Send comments to Susan G. Queen, Ph.D., HRSA Reports Clearance Officer, Room 10-33 Parklawn Building, 5600 Fishers Lane, Rockville, Maryland 20857. Written comments should be received with 60 days of this notice.

Dated: June 6, 2006.
Cheryl R. Dammons,
Director, Division of Policy Review and Coordination.

[FR Doc. E6-9200 Filed 6-12-06; 8:45 am]

BILLING CODE 4165-15-P